ENVIRONMENTAL PROTECTION AGENCY

[FRL-8962-9]

NACEPT Subcommittee on Promoting Environmental Stewardship

AGENCY: Environmental Protection Agency (EPA).

ACTION: Notice of meeting.

SUMMARY: Under the Federal Advisory Committee Act, Public Law 92-463, EPA gives notice of a meeting of the NACEPT Subcommittee on Promoting Environmental Stewardship.

The purpose of the Subcommittee on Promoting Environmental Stewardship (SPES) of the National Advisory Council for Environmental Policy and Technology (NACEPT) is to advise the U.S. Environmental Protection Agency on how to promote environmental stewardship practices that encompass all environmental aspects of an organization in the regulated community and other sectors, as appropriate, in order to enhance human health and environmental protection. A copy of the meeting agenda will be posted at http://epa.gov/ncei/dialogue.htm. This Web site also includes the charge of the SPES, which provides further information about the purpose of the Subcommittee.

The agenda for the subject meeting will focus on discussions among the three current Subcommittee workgroups: (1) Gap Analysis Workgroup, which is exploring how stewardship activities may accomplish Agency goals that are not covered by statute or regulation; (2) Short-term Recommendations Workgroup, which is looking at relatively simple and quick actions for EPA to implement in the short term to promote stewardship; and (3) Long-term Recommendations Workgroup, which is exploring EPA's role in addressing issues that invite and require a cross-sector, cross-media, and long-term perspective (e.g., climate change and energy use).

DATES: The NACEPT Subcommittee on Promoting Environmental Stewardship will hold an open meeting on October 6 (8:30 a.m.-5 p.m.) and October 7, 2009 (8:30 a.m.-5 p.m.) Eastern standard time.

ADDRESSES: The meeting will be held at the EPA Office of Pesticide Programs, One Potomac Yard, Conference Center South (Room S-4370-80, Fourth Floor), 2777 S. Crystal Dr., Arlington, VA 22202. The meeting is open to the public, with limited seating on a first-come, first-served basis.

FOR FURTHER INFORMATION CONTACT: Regina Langton, Designated Federal Officer, langton.regina@epa.gov, 202-566-2178, U.S. EPA Office of Policy, Economics, and Innovation (MC1807T), 1200 Pennsylvania Avenue, NW., Washington, DC 20460.

SUPPLEMENTARY INFORMATION: Requests to make brief oral comments or provide written statements to the SPES should be sent to Jennifer Peyser at (202) 965-6215 or jpeyser@RESOLV.org. All requests must be received no later than September 30, 2009.

Meeting Access: For information on access or services for individuals with disabilities, please contact Jennifer Peyser at jpeyser@RESOLV.org. To request accommodation of a disability, please contact Jennifer Peyser at least 10 days prior to the meeting to give EPA as much time as possible to process your request.

Dated: September 21, 2009.
Regina Langton,
Designated Federal Officer.

[FR Doc. E9-23049 Filed 9-23-09; 8:45 am]

BILLING CODE 6560-50-P